DEPARTMENT OF AGRICULTURE

DEPARTMENT OF THE INTERIOR

Notice of Guidelines for Public Involvement in Establishing Recreation Fee Areas and for Demonstrating How the Public Was Informed on the Use of Recreation Fee Revenues

AGENCY: Forest Service, USDA; National Park Service, Fish and Wildlife Service, Bureau of Land Management, Bureau of Reclamation, DOI.

ACTION: Establishment of interagency guidelines.

SUMMARY: This notice establishes guidelines on public participation and public outreach for the United States Department of Agriculture, Forest Service, and the United States Department of the Interior, National Park Service; United States Fish and Wildlife Service; Bureau of Land Management; and Bureau of Reclamation (the cooperating agencies). The guidelines apply to the establishment of new recreation fee areas and the demonstration of how the cooperating agencies have informed the public on the use of recreation fee revenues. In addition, each cooperating agency will determine specific public involvement opportunities based on local needs and interests. Detailed guidance on public involvement will be incorporated in each agency's directives, manuals, or orders.

EFFECTIVE DATE: These guidelines are effective September 28, 2005.

FOR FURTHER INFORMATION CONTACT: Jonathan Stephens, Recreation and Heritage Resources Staff, USDA Forest Service, (202) 205-1701; Lee Larson, Bureau of Land Management Recreation Fee Program, (202) 452-5168; Jane Anderson, National Park Service, (202) 513-7087; Rebecca Halbe, U.S. Fish and Wildlife Service, (703) 358-2365; or Bruce Brown, Bureau of Reclamation, (202) 513-0599.

SUPPLEMENTARY INFORMATION:

I. Background

In accordance with Section 804(c) of the Federal Lands Recreation Enhancement Act (REA) (16 U.S.C. 6803(c)), the United States Department of Agriculture, Forest Service (FS), and the United States Department of the Interior, Bureau of Land Management (BLM), Bureau of Reclamation (Reclamation), United States Fish and Wildlife Service (FWS), and National Park Service (NPS), referred to collectively as the cooperating agencies, are jointly publishing these public involvement guidelines. These guidelines address public involvement in the establishment of any new recreation fee areas and describe how the cooperating agencies will demonstrate how they have informed the public on the use of recreation fee revenues.

The cooperating agencies are responsible for management of Federal lands, resources, and waters and enhancing the public's knowledge, use, and appreciation of these lands, resources, and waters. The cooperating agencies agree to work together to implement the public involvement requirements in REA efficiently and effectively. The goals of the public involvement guidelines are to provide the public with opportunities to be actively engaged in establishment of any new recreation fee areas and to provide for effective ways to demonstrate annually how the public has been informed of how recreation fee revenues are spent. In addition, REA provides the FS and BLM with additional opportunities for public involvement through the establishment of Recreation Resource Advisory Committees. The public will also have opportunities to work with the cooperating agencies in recommending how the recreation fees will be spent.

II. Establishment of New Recreation Fee Areas

The cooperating agencies will integrate public involvement opportunities in any decision to establish new recreation fee areas.

REA applies to the Secretary of Agriculture as to National Forest System lands and the Secretary of the Interior as to lands managed by NPS, FWS, BLM, and Reclamation (16 U.S.C. 6801(10)). As required by Section 804(b) of REA (16 U.S.C. 6803(b)), the Secretary with jurisdiction will publish a Federal Register notice of the establishment of each new recreation fee area 6 months prior to its establishment.

The cooperating agencies will identify outreach efforts to encourage public involvement in establishment of new recreation fee areas. Outreach efforts may include recreation fee site visits, public meetings, focus groups, newsletters, and Web sites.

Public involvement opportunities will include sharing plans developed by the cooperating agencies for establishment of any recreation fee areas. These plans generally will contain (1) a description of the new recreation fee areas; (2) a financial analysis, including projected development, operating, and maintenance costs and projected income for the fee area; (3) an analysis of existing private and public facilities or services in the vicinity of the fee area that may compete with it, and (4) a description of how the cooperating agencies will inform the public as to how the fees collected at the area are spent.

In addition, each cooperating agency will determine specific public involvement opportunities based on local needs and interests. Detailed guidance on public involvement will be incorporated in each cooperating agency's directives, manuals, or orders.

III. Demonstrating Annually How the Public Was Informed of the Use of Recreation Fee Revenues

The cooperating agencies annually will post notices at each recreation fee area informing the public of the use or anticipated use of recreation fees collected at that site during the previous year. In addition, in the triennial report to Congress on the recreation fee program required by Section 809 of REA (16 U.S.C. 6808), the cooperating agencies will describe how they have informed the public about the use of recreation fee revenues. This information will also be made available on cooperating agencies' Web sites.

Dated: September 15, 2005.
Mark Rey,
Under Secretary, Natural Resources and Environment, Department of Agriculture.
Dated: August 12, 2005.
P. Lynn Scarlett,
Assistant Secretary, Policy, Management and Budget, Department of the Interior.

[FR Doc. 05-19332 Filed 9-27-05; 8:45 am]

BILLING CODE 4310-84-P